ENVIRONMENTAL PROTECTION AGENCY

[FRL-6564-9]

National Drinking Water Advisory Council; Small Systems Implementation Working Group; Notice of Conference Call

AGENCY: Environmental Protection Agency (EPA).

ACTION: Notice.

SUMMARY: Under Section 10(a)(2) of Public Law 92-423, “The Federal Advisory Committee Act,” notice is hereby given that two conference calls of the Small Systems Implementation Working Group of the National Drinking Water Advisory Council established under the Safe Drinking Water Act, as amended (42 U.S.C. S300f et seq.), will be held on April 10, 2000, from 1:00 p.m. to 3:00 p.m. EDT, and April 20, 2000 from 1:00 pm to 3:00 pm EDT. The calls will be held at the U.S. Environmental Protection Agency, 401 M Street S.W., Room 1209 East Tower, Washington, D.C. Both meetings are open to the public to observe, but seating will be limited.

The purpose of the first meeting is to review the draft report outlining the working group's final recommendations to the National Drinking Water Advisory Council. These recommendations are based on a series of analyses and deliberations on seven issue areas including water-system capacity development, public awareness and education, water-system governance, water-system organization, water service costs and affordability, unsustainable water systems, and water-policy institutions. The second meeting will be used to reach a final consensus of any revisions made as a result of discussions from the first conference call.

For more information, please contact Peter E. Shanaghan, Designated Federal Officer, Small Systems Implementation Working Group, U.S. EPA, Office of Ground Water and Drinking Water (4606), 401 M Street, S.W., Washington, D.C. 20460. The telephone number is 202-260-5813 and the email address is shanaghan.peter@epa.gov.

Dated: March 21, 2000.
Charlene E. Shaw,
Designated Federal Officer, National Drinking Water Advisory Council.

[FR Doc. 00-7451 Filed 3-24-00; 8:45 am]

BILLING CODE 6560-50-P